DEPARTMENT OF ENERGY

Federal Energy Regulatory Commission

[Docket No. OR19-10-000]

BP Products North American, Chevron Products Company, Epsilon Trading, LLC, Phillips 66 Company, Southwest Airlines Co., Trafigura Trading LLC, TCPU, Inc., United Aviation Fuels Corporation, Valero Marketing and Supply Company v. Colonial Pipeline Company; Notice of Complaint

Take notice that on November 30, 2018, pursuant to sections 6(1), 6(3), 6(7), 13(1), 15(1), and 15(7) of the Interstate Commerce Act (ICA),¹ Rules 341, 342, and 343 of the Federal Energy Regulatory Commission's (Commission) Rules Applicable to Oil Pipeline Proceedings,² and Rules 206, 207(a)(5), 209, and 211 of the Commission's Rule of Practice and Procedure,³ BP Products North America, Inc., Chevron Products Company, Epsilon Trading, LLC, Phillips 66 Company, Southwest Airlines Co., Trafigura Trading LLC, TCPU, Inc., United Aviation Fuels Corporation, and Valero Marketing and Supply Company (collectively, Complainants) filed a formal complaint against Colonial Pipeline Company (Respondent) alleging that the Respondent's untarriffed increase of a product loss allocation rate is unlawful under sections 6, 13, and 15 of the ICA, as more fully explained in the complaint.

¹ 49 U.S.C. App. 6(1), 6(3), 6(7), 13(1), 15(1), and 15(7) (1988).

² 18 CFR 341.2, 341.8, 341.11, 342.1(b), 343.3, and 343.4 (2018).

³ 18 CFR 341.2, 341.8, 341.11, 342.1(b), 343.3, and 343.4 (2018).

The Complainants state that a copy of the complaint was served on the contacts for the Respondent listed on the Commission's list of Corporate Officials.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 5 copies of the protest or intervention to the Federal Energy Regulatory Commission, 888 First Street NE, Washington, DC 20426.

This filing is accessible online at http://www.ferc.gov, using the “eLibrary” link and is available for electronic review in the Commission's Public Reference Room in Washington, DC. There is an “eSubscription” link on the website that enables subscribers to receive email notification when a document is added to a subscribed docket(s). For assistance with any FERC Online service, please email FERCOnlineSupport@ferc.gov, or call (866) 208-3676 (toll free). For TTY, call (202) 502-8659.

Comment Date: 5 p.m. Eastern Time on December 31, 2018.

Dated: December 3, 2018.
Kimberly D. Bose,
Secretary.

[FR Doc. 2018-26662 Filed 12-7-18; 8:45 am]

BILLING CODE 6717-01-P